DEPARTMENT OF COMMERCE

National Oceanic and Atmospheric Administration

RIN 0648-XF213

Marine Mammals; File No. 16609-01

AGENCY: National Marine Fisheries Service (NMFS), National Oceanic and Atmospheric Administration (NOAA), Commerce.

ACTION: Notice; receipt of application for permit amendment.

SUMMARY: Notice is hereby given that Zoological Society of San Diego [Douglas Myers, Responsible Party], P.O. Box 120551, San Diego, CA 92112, has applied for an amendment to Scientific Research Permit No. 16609.

DATES: Written, telefaxed, or email comments must be received on or before September 11, 2017.

ADDRESSES: The application and related documents are available for review by selecting “Records Open for Public Comment” from the “Features” box on the Applications and Permits for Protected Species home page, https://apps.nmfs.noaa.gov, and then selecting File No. 16609 from the list of available applications.

These documents are also available upon written request or by appointment in the Permits and Conservation Division, Office of Protected Resources, NMFS, 1315 East-West Highway, Room 13705, Silver Spring, MD 20910; phone (301) 427-8401; fax (301) 713-0376.

Written comments on this application should be submitted to the Chief, Permits and Conservation Division, at the address listed above. Comments may also be submitted by facsimile to (301) 713-0376, or by email to NMFS.Pr1Comments@noaa.gov. Please include the File No. in the subject line of the email comment.

Those individuals requesting a public hearing should submit a written request to the Chief, Permits and Conservation Division at the address listed above. The request should set forth the specific reasons why a hearing on this application would be appropriate.

FOR FURTHER INFORMATION CONTACT: Shasta McClenahan or Jennifer Skidmore, (301) 427-8401.

SUPPLEMENTARY INFORMATION: The subject amendment to Permit No. 16609 is requested under the authority of the Marine Mammal Protection Act of 1972, as amended (16 U.S.C. 1361 et seq.), the regulations governing the taking and importing of marine mammals (50 CFR part 216), the Endangered Species Act of 1973, as amended (16 U.S.C. 1531 et seq.), and the regulations governing the taking, importing, and exporting of endangered and threatened species (50 CFR parts 222-226), and the Fur Seal Act of 1966, as amended (16 U.S.C. 1151 et seq.).

Permit No. 16609, issued on April 27, 2017 (82 FR 29053), authorizes the receipt, import, and export of biological samples to establish and bank cell lines from any species of cetacean, pinniped, or sea turtle, including ESA-listed species, from up to 30 individuals of each species. The permit holder is requesting to amend the authorization to increase the annual number of samples to 60 individuals of each species, for receipt, import, and export to fulfill a new research objective to perform contaminant analysis.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of this application to the Marine Mammal Commission and its Committee of Scientific Advisors.

Julia Harrison,
Chief, Permits and Conservation Division, Office of Protected Resources, National Marine Fisheries Service.

[FR Doc. 2017-16900 Filed 8-9-17; 8:45 am]

BILLING CODE 3510-22-P